DEPARTMENT OF HEALTH AND HUMAN SERVICES

Health Resources and Service Administration

Advisory Committee on Training in Primary Care Medicine and Dentistry; Notice of Meeting

In accordance with section 10(a)(2) of the Federal Advisory Committee Act (Public Law 92-463), notice is hereby given of the following meeting:

Name: Advisory Committee on Training in Primary Care Medicine and Dentistry (ACTPCMD).

Dates and Times: September 9, 2016.

Place: Webinar/Conference Call Component.

Status: The meeting will be open to the public.

Purpose: The ACTPCMD provides advice and recommendations on a broad range of issues relating to grant programs authorized by Title VII, Part C, sections 747 and 748 of the Public Health Service Act (PHSA). During the September 9, 2016 meeting, the Committee will continue work on the ACTPCMD 14th report integrating behavioral health content into primary care medicine and oral health training program.

Agenda: The ACTPCMD agenda will be available 2 days prior to the meeting on the HRSA Web site at http://www.hrsa.gov/advisorycommittees/bhpradvisory/actpcmd/index.html.

SUPPLEMENTARY INFORMATION: Requests by members of the public to make oral comments or provide written comments to the ACTPCMD should be sent to Dr. Joan Weiss, Designated Federal Official, using the address and phone number below. Individuals who plan to participate on the conference call and webinar should notify Dr. Weiss at least 3 days prior to the meeting, using the address and phone number below. Interested parties should refer to the meeting subject as the HRSA Advisory Committee on Training in Primary Care Medicine and Dentistry or ACTPCMD.

• The conference call-in number is 1-800-619-2521. The passcode is 9271697.

• The webinar link is https://hrsa.connectsolutions.com/actpcmd.

Contact: Anyone requesting information regarding the ACTPCMD should contact Dr. Joan Weiss, Designated Federal Official within the Bureau of Health Workforce, Health Resources and Services Administration, in one of three ways: (1) Send a request to the following address: Dr. Joan Weiss, Designated Federal Official, Bureau of Health Workforce, Health Resources and Services Administration, 5600 Fishers Lane, Room 15N39, Rockville, Maryland 20857; (2) call (301) 443-0430; or (3) send an email to jweiss@hrsa.gov.

Jason E. Bennett,
Director, Division of the Executive Secretariat.

[FR Doc. 2016-19815 Filed 8-18-16; 8:45 am]

BILLING CODE 4165-15-P